NUCLEAR REGULATORY COMMISSION

[Docket No. 40-6940]

Notice of Availability of Environmental Assessment and Finding of No Significant Impact for License Amendment for Cabot Corporation, Boyertown, PA

AGENCY: Nuclear Regulatory Commission.

ACTION: Notice of availability.

FOR FURTHER INFORMATION CONTACT: Michael Raddatz, Sr., Project Manager, Fuel Cycle Facilities Branch, Division of Fuel Cycle Safety and Safeguards, Office of Nuclear Material Safety and Safeguards, U.S. Nuclear Regulatory Commission, Washington, DC 20555-0001. Telephone: (301) 415-6334; fax number: (301) 415-5955; e-mail: mgr@nrc.gov.

SUPPLEMENTARY INFORMATION:

I. Introduction

The Nuclear Regulatory Commission (NRC) is issuing an amendment to Materials License No. SMB-920 issued to Cabot Corporation (the licensee), to authorize the recycling of waste water filtercake to be used as feed material at a cement kiln. NRC has prepared an Environmental Assessment (EA) in support of this amendment in accordance with the requirements of 10 CFR part 51. Based on the EA, the NRC has concluded that a Finding of No Significant Impact (FONSI) is appropriate. The amendment will be issued following the publication of this notice.

II. EA Summary

The purpose of the proposed amendment is to authorize the recycling of waste water filtercake so it may be used as feed material at a cement kiln. Specifically, the amendment will allow the licensee to transfer filtercake, containing very low levels of radioactive contamination, to a cement kiln so it may be utilized rather than disposed of in a landfill.

Cabot Supermetals (CSM) submitted, by letter dated November 24, 2004, a license amendment request for Source Materials License No. SMB-920, to allow recycling of waste water filtercake produced at the Boyertown, Pennsylvania (PA) facility. The staff has prepared the EA in support of the proposed license amendment. Within the EA staff considered information related to the site (cultural resources, demographics and socio-economics, hydrology, geology, meteorology, ecology, air and water quality, and noise) most of which was detailed in the Environmental Assessment issued April 12, 2004, for the license renewal. The proposed action was found to result in doses for all scenarios of less than 0.01 milliSievert per year (mSv/yr) [1 millirem/yr]. These doses are consistent with NRC's policy on recycling of material under 10 CFR 20.2002. The staff also reviewed the impacts from the transportation and handling of the filtercake and found that impacts were similar to, or below those already being measured when the filtercake is sent to a landfill.

III. Finding of No Significant Impact

On the basis of the EA, NRC has concluded that there are no significant environmental impacts from the proposed amendment and has determined not to prepare an environmental impact statement.

IV. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are as follows:

Document | ADAMS accession no. | Date
Environmental Assessment for the Cabot Corporation License Renewal, SMB-920 (L52514) | ML041030379 | 04/12/2004
Application to amend license SMB-920 to allow the recycling of filtercake to be used as cement kiln feed | ML043350420 | 11/18/2004
Request to amend license SMB-920 to allow the recycling of filtercake to be used as cement kiln feed | ML043350417 | 11/24/2004
Supplemental information to the request to amend license SMB-920 to allow the recycling of filtercake to be used as cement kiln feed | ML043350423 | 11/24/2004
Letter discussing the Agency's position on conservation of natural resources | ML043640417 | 12/22/2004
12/22/04 Ltr. To Mr. O'Neill (Cabot Corp.) From E. Brumett | ML043570238 | 12/22/2004
Response to NRC Comments Dated 12/22/2004 | ML050330142 | 1/28/2005
Draft Environmental Assessment for Recycling Amendment | ML050910456 | 3/31/2005
E-Mail from R. Schoenfelder. Re: Amendment to allow Recycling of Filtercake | ML051510248 | 5/19/2005
Final Environmental Assessment | ML051640062 | 6/10/2005

If you do not have access to ADAMS or if there are problems in accessing the documents located in ADAMS, contact the NRC's Public Document Room (PDR) reference staff at 1-800-397-4209, 301-415-4737, or by e-mail to pdr@nrc.gov.

These documents may also be viewed electronically on the public computers located at the NRC's PDR, O 1 F21, One White Flint North, 11555 Rockville Pike, Rockville, MD 20852. The PDR reproduction contractor will copy documents for a fee.

Dated in Rockville, MD this 20th day of June, 2005.
For the Nuclear Regulatory Commission.
Michael G. Raddatz, Sr.,
Project Manager, Uranium Processing Section, Fuel Cycle Facilities Branch, Division of Fuel Cycle Safety and Safeguards, Office of Nuclear Material Safety and Safeguards.

[FR Doc. E5-3560 Filed 7-6-05; 8:45 am]

BILLING CODE 7590-01-P